SMALL BUSINESS ADMINISTRATION

13 CFR Part 125

RIN: 3245-AE66

Small Business Size Regulation; Government Contracting Programs; HUBZone Program; Correction

AGENCY: U.S. Small Business Administration.

ACTION: Correcting amendment.

SUMMARY: This document contains a correction to the final regulations which were published in the Federal Register of May 24, 2004. The regulations amended several definitions and made procedural and technical amendments to cover the U.S. Small Business Administration's (SBA) HUBZone, size and government contracting programs. This rule also inadvertently included two provisions that except for one word are substantively similar. SBA is removing one of these two provisions to eliminate the confusion.

DATES: Effective January 24, 2007.

FOR FURTHER INFORMATION CONTACT: Dean Koppel, Assistant Administrator, Office of Policy, Planning and Liaison, (202) 205-7322, or dean.koppel@sba.gov.

SUPPLEMENTARY INFORMATION: On May 5, 2004, the SBA published an interim final rule that created the Service Disabled Veteran Owned (SDVO) Small Business program, 69 FR 25262. In that rule, the SBA added paragraph (b) to § 125.6, to address subcontracting limitations for SDVO small businesses. As a result of this new paragraph (b), the SBA redesignated then-current paragraphs (b), (c), (d), (e), (f), and (g) as paragraphs (c), (d), (e), (f), (g), and (h), respectively.

On May 21, 2004, the SBA published a final rule amending its size regulations, as well as the regulations addressing SBA's government contracting programs (69 FR 29192). In its final rule, the SBA amended § 125.6(g) to state that:

Where an offeror is exempt from affiliation under § 121.103(h)(3) of this chapter and qualifies as a small business concern, the performance of work requirements set forth in this section apply to the cooperative effort of the joint venture, not its individual members.

69 FR 29208. The rule removed the term “team” from § 125.6(g). However, as a result of the SDVO interim final rule, former paragraph (g)—addressing the use of cooperative efforts to meet the subcontracting limitations—became paragraph (h). Thus, the final rule published on May 21, 2004 should have amended paragraph (h) and not paragraph (g). Consequently, as of May 21, 2004, both paragraphs (g) and (h) addressed using cooperative efforts to meet the subcontracting limitations requirements.

A few days later, on May 24, 2004, the SBA published amendments to its size and HUBZone regulations. 69 FR 29411. In the final rule, the SBA redesignated paragraphs (c), (d), (e), (f), (g), and (h) of § 125.6 as paragraphs (e), (f), (g), (h), (i), and (j) (because the SBA had added two new paragraphs—(c) and (d)—to address changes to the HUBZone program's subcontracting limitations on construction contracts). Id. at 29420. Paragraphs (g) and (h) became paragraphs (i) and (j). Therefore, except for the term “team,” both paragraphs are now essentially identical. The regulations now state:

(i) Where an offeror is exempt from affiliation under § 121.103(h)(3) of this chapter and qualifies as a small business concern, the performance of work requirements set forth in this section apply to the cooperative effort of the joint venture, not its individual members.

(j) Where an offeror is exempt from affiliation under § 121.103(f)(3) of this chapter and qualifies as a small business concern, the performance of work requirements set forth in this section apply to the cooperative effort of the team or joint venture, not its individual members.

13 CFR 125.6. The last regulation that the SBA had promulgated concerning cooperative efforts and the subcontracting limitations requirement and the regulation that correctly reflects the amendment SBA intended is set forth at § 125.6(i). Therefore, to correct this error and to eliminate the confusion caused by the two similar, but apparently contradictory provisions, the SBA is removing current paragraph (j).

List of Subjects in 13 CFR Part 125

Administrative practice and procedure, Government procurement, Small businesses.

Accordingly, 13 CFR part 125 is corrected by making the following correcting amendment:

PART 125—GOVERNMENT CONTRACTING PROGRAMS

1. The authority citation for part 125 continues to read as follows:

Authority: 15 U.S.C. 632(p), (q), 634(b)(6), 637, 644, and 657(f).

2. Amend § 125.6 by removing paragraph (j).

Steven C. Preston,
Administrator.

[FR Doc. E7-966 Filed 1-23-07; 8:45 am]

BILLING CODE 8025-01-P